DEPARTMENT OF TRANSPORTATION

Federal Aviation Administration

14 CFR Part 71

Proposed Modification of the Charlotte, NC, Class B Airspace Area; Public Meetings

AGENCY: Federal Aviation Administration (FAA), DOT.

ACTION: Notice of meetings.

SUMMARY: This notice announces two fact-finding informal airspace meetings to solicit information from airspace users and others, concerning a proposal to revise the Class B airspace area at Charlotte, NC. The purpose of these meetings is to provide interested parties an opportunity to present views, recommendations, and comments on the proposal. All comments received during these meetings will be considered prior to any issuance of a notice of proposed rulemaking.

Times and Dates: The informal airspace meetings will be held on Wednesday, January 7, 2009, from 3 p.m.-8 p.m.; and Thursday, January 8, 2009, from 3 p.m.-8 p.m. Comments must be received on or before February 9, 2009.

ADDRESSES: 1. The meeting on Wednesday, January 7, 2009, will be held at the Concord Regional Airport, Conference Room, 9000 Aviation Blvd., Concord, NC 28027. 2. The meeting on Thursday, January 8, 2009, will be held at the Rock Hill Airport, Conference Room, 550 Airport Rd., Rock Hill, SC 29732.

Comments: Send comments on the proposal to: Mark D. Ward, Manager, Operations Support Group, Air Traffic Organization, Eastern Service Area, Federal Aviation Administration, P.O. Box 20636, Atlanta, GA 30320

FOR FURTHER INFORMATION CONTACT: Mike Schmidt, Support Manager, Charlotte Airport Traffic Control Tower, 5507 Josh Birmingham Pkwy., Charlotte, NC 28208; telephone: (704) 359-1010.

SUPPLEMENTARY INFORMATION:

Meeting Procedures

a. The meetings will be informal in nature and will be conducted by one or more representatives of the FAA Eastern Service Center. A representative from the FAA will present an informal briefing on the planned modification to the Class B airspace area at Charlotte, NC. Each participant will be given an opportunity to deliver comments or make a presentation. Only comments concerning the plan to modify the Class B airspace area at Charlotte, NC, will be accepted.

b. The meetings will be open to all persons on a space-available basis. There will be no admission fee or other charge to attend and participate.

c. Any person wishing to make a presentation to the FAA panel will be asked to sign in and estimate the amount of time needed for such presentation. This will permit the panel to allocate an appropriate amount of time for each presenter. These meetings will not be adjourned until everyone on the list has had an opportunity to address the panel.

d. Position papers or other handout material relating to the substance of these meetings will be accepted. Participants wishing to submit handout material should present an original and two copies (3 copies total) to the presiding officer. There should be additional copies of each handout available for other attendees.

e. These meetings will not be formally recorded. However, a summary of comments made at the meeting will be filed in the docket.

Agenda for the Meetings

—Sign-in

—Presentation of Meeting Procedures

—FAA Explanation of the Proposed Class B Modifications

—Public Presentations and Discussions

—Closing Comments

Authority: 49 U.S.C. 106(g), 40103, 40113, 40120; E.O. 10854, 24 FR 9565, 3 CFR, 1959-1963 Comp., p. 389.

Issued in Washington, DC, on October 16, 2008.
Edith V. Parish,
Manager, Airspace and Rules Group.

[FR Doc. E8-25214 Filed 10-23-08; 8:45 am]

BILLING CODE 4910-13-P